DEPARTMENT OF TRANSPORTATION

Federal Transit Administration

Supplemental Environmental Impact Statement for the Central Link Light Rail Transit Project

AGENCY: Federal Transit Administration, DOT.

ACTION: Notice of intent to prepare a Supplemental Environmental Impact Statement (SEIS).

SUMMARY: The Federal Transit Administration (FTA) is issuing this notice to advise the public, tribes and agencies that an SEIS will be prepared to further evaluate station and route alternatives from Northeast (NE) 45th Street to Northgate Mall in Seattle, Washington, and possibly design refinements and variations in other segments of the project for the Central Link Light Rail Transit Project. This action is a supplement to the Central Link Light Rail Transit Project Final EIS, November 1999.

DATES: This EIS is a supplement to the Central Link Light Rail Transit Project Final EIS, November 1999, and scoping has been waived consistent with 23 CFR 771.130(d).

FOR FURTHER INFORMATION CONTACT: John Witmer, Federal Transit Administration, 915 2nd Avenue, Suite 3142, Seattle, WA 98174, Telephone: 206.220.7964 or Chris Townsend, Sound Transit, 401 South Jackson St., Seattle, WA 98104-2826, Telephone: 206.398.5135

SUPPLEMENTARY INFORMATION: FTA and the Puget Sound Regional Transit Authority (Sound Transit) will prepare a supplemental EIS on three route alternatives from NE 45th Street to Northgate Mall. The first option is the “12th Avenue Tunnel.” This route is in a tunnel from NE 45th Street at the University of Washington to just north of Lake City Way near NE 76th Street and continues elevated mostly within the right-of-way of Interstate 5 (I-5) to Northgate. Stations would be located at (1) 12th Avenue NE and NE 65th Street and (2) Northgate. The second option is the “A2.1b 8th Avenue NE retained cut” alternative. This route is in tunnel from NE 45th Street to a West portal located just south of Ravenna Boulevard. From there it ascends to a new elevated station layout south of NE 65th Street adjacent to I-5, then into a retained cut-fill configuration along the east side of I-5, and then elevated to a station and three tail tracks at Northgate.

The third option is the “A2.1c 8th Avenue retained cut” alternative. This route is in tunnel from NE 45th Street to an East portal located just south of Ravenna Blvd. From there it also ascends to an elevated station south of NE 65th Street, then into a retained cut-fill configuration and storage track along the east side of I-5, and then elevated to a station and one tail track at Northgate. There are two new station and park-and-ride lot options at the Northgate Transit Center on the east side of First Avenue NE between NE 100th Street and NE 103rd Street. The supplemental EIS may also address design refinements and variations in other segments of the project.

Issued on: April 11, 2001.
Linda M. Gehrke,
FTA Deputy Regional Administrator.

[FR Doc. 01-9384 Filed 4-13-01; 8:45 am]

BILLING CODE 4910-57-M